DEPARTMENT OF ENERGY

Federal Energy Regulatory Commission

Combined Notice of Filings #1

Take notice that the Commission received the following exempt wholesale generator filings:

Docket Numbers: EG24-74-000.

Applicants: Brazos Bend BESS LLC.

Description: Brazos Bend BESS LLC submits Notice of Self-Certification of Exempt Wholesale Generator Status.

Filed Date: 1/10/24.

Accession Number: 20240110-5063.

Comment Date: 5 p.m. ET 1/31/24.

Take notice that the Commission received the following electric rate filings:

Docket Numbers: ER24-760-001.

Applicants: Consolidated Edison Company of New York, Inc.

Description: Tariff Amendment: Amended Filing 1-9-2024 of 12-26-2023 WDS Filing to be effective 1/1/2024.

Filed Date: 1/10/24.

Accession Number: 20240110-5001.

Comment Date: 5 p.m. ET 1/31/24.

Docket Numbers: ER24-838-000.

Applicants: Grandview Solar Project LLC.

Description: Petition for Limited, Prospective Waiver of Grandview Solar Project LLC.

Filed Date: 1/9/24.

Accession Number: 20240109-5152.

Comment Date: 5 p.m. ET 1/30/24.

Docket Numbers: ER24-839-000.

Applicants: EF Oxnard LLC.

Description: Compliance filing: Notice of Non-Material CIS, MBR Tariff Revisions re Change in Seller Category to be effective 3/11/2024.

Filed Date: 1/10/24.

Accession Number: 20240110-5041.

Comment Date: 5 p.m. ET 1/31/24.

Docket Numbers: ER24-840-000.

Applicants: Midcontinent Independent System Operator, Inc.

Description: 205(d) Rate Filing: 2024-01-10_SA 1772 ITC Midwest-Hardin Hilltop 1st Rev GIA (G530) to be effective 12/27/2023.

Filed Date: 1/10/24.

Accession Number: 20240110-5077.

Comment Date: 5 p.m. ET 1/31/24.

Docket Numbers: ER24-841-000.

Applicants: Pacific Gas and Electric Company.

Description: 205(d) Rate Filing: Amendment to LS Power Grid California (Gates) (TO SA 447) to be effective 3/11/2024.

Filed Date: 1/10/24.

Accession Number: 20240110-5094.

Comment Date: 5 p.m. ET 1/31/24.

Docket Numbers: ER24-842-000.

Applicants: Alabama Power Company, Georgia Power Company, Mississippi Power Company.

Description: 205(d) Rate Filing: Alabama Power Company submits tariff filing per 35.13(a)(2)(iii: Yellowhammer Renewable Energy (Yellowhammer Solar) LGIA Filing to be effective 12/27/2023.

Filed Date: 1/10/24.

Accession Number: 20240110-5096.

Comment Date: 5 p.m. ET 1/31/24.

Docket Numbers: ER24-843-000.

Applicants: PJM Interconnection, L.L.C.

Description: 205(d) Rate Filing: Revisions to Sch. 12-Appx A and C: December 2023 RTEP, 30-Day Comment Period to be effective 4/9/2024.

Filed Date: 1/10/24.

Accession Number: 20240110-5117.

Comment Date: 5 p.m. ET 1/31/24.

Docket Numbers: ER24-844-000.

Applicants: Public Service Company of Oklahoma.

Description: 205(d) Rate Filing: PSO-OMPA-PPWA Pawhuska Delivery Point Agreement to be effective 12/15/2023.

Filed Date: 1/10/24.

Accession Number: 20240110-5123.

Comment Date: 5 p.m. ET 1/31/24.

Docket Numbers: ER24-845-000.

Applicants: Arizona Public Service Company.

Description: 205(d) Rate Filing: Rate Schedule No. 315, Amendment No. 1 to be effective 3/11/2024.

Filed Date: 1/10/24.

Accession Number: 20240110-5136.

Comment Date: 5 p.m. ET 1/31/24.

Docket Numbers: ER24-846-000.

Applicants: Cheyenne Light, Fuel and Power Company.

Description: 205(d) Rate Filing: CLFP-Tri-State NITSA/NOA to be effective 12/15/2023.

Filed Date: 1/10/24.

Accession Number: 20240110-5147.

Comment Date: 5 p.m. ET 1/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 10, 2024.
Debbie-Anne A. Reese,
Acting Secretary.

[FR Doc. 2024-00771 Filed 1-16-24; 8:45 am]

BILLING CODE 6717-01-P